DEPARTMENT OF DEFENSE

Department of the Navy

[Docket ID: USN-2021-HQ-0004]

Submission for OMB Review; Comment Request

AGENCY: The United States Marine Corps, Department of Defense (DoD).

ACTION: Information collection notice.

SUMMARY: Consistent with the Paperwork Reduction Act of 1995 and its implementing regulations, this document provides notice DoD is submitting an Information Collection Request to the Office of Management and Budget (OMB) to collect information on active-duty military members, DoD civilians, and contractors, inform COVID-19 vaccine status and return to in-person work. DoD requests emergency processing and OMB authorization to collect the information.

DATES: Comments must be received by June 1, 2021.

ADDRESSES: The Department has requested emergency processing from OMB for this information collection request by 5 days after publication of this notice. Interested parties can access the supporting materials and collection instrument as well as submit comments and recommendations to OMB at www.reginfo.gov/public/do/PRAMain. Find this particular information collection by selecting “Currently under 5-day Review—Open for Public Comments” or by using the search function.

Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: This study will examine gender integration at USMC recruit training from the perspective of the recruits, training cadre and senior leaders. The study will also observe training events that occur throughout the conduct of recruit training. These surveys and interviews will also be conducted with a smaller population of non USMC service members.

Title; Associated Form; and OMB Number: USMC Gender Integration Study; 0703-UGIS.

Type of Request: New.

Number of Respondents: 770.

Responses per Respondent: 1.

Annual Responses: 770.

Average Burden per Response: 45 Minutes.

Annual Burden Hours: 577.5 Hours.

Affected Public: DoD Service Members.

Frequency: One time.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: May 19, 2021.
Aaron T. Siegel,
Alternate OSD Federal Register Liaison Officer, Department of Defense.

[FR Doc. 2021-10949 Filed 5-24-21; 8:45 am]

BILLING CODE 5001-06-P